DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project “TeamSTEPPS® 3.0 Training Assessment.” This proposed information collection was previously published in the Federal Register on October 4th, 2023 and allowed 60 days for public comment. AHRQ received no substantive comments from members of the public. The purpose of this notice is to allow an additional 30 days for public comment.

DATES: Comments on this notice must be received by January 16, 2024.

ADDRESSES: Written comments and recommendations for the proposed information collection should be sent within 30 days of publication of this notice to www.reginfo.gov/public/do/PRAMain. Find this particular information collection by selecting “Currently under 30-day Review—Open for Public Comments” or by using the search function.

Copies of the proposed collection plans, data collection instruments, and specific details on the estimated burden can be obtained from the AHRQ Reports Clearance Officer.

FOR FURTHER INFORMATION CONTACT: Doris Lefkowitz, AHRQ Reports Clearance Officer, (301) 427-1477, or by email at doris.lefkowitz@AHRQ.hhs.gov.

SUPPLEMENTARY INFORMATION:

Proposed Project

TeamSTEPPS® 3.0 Training Assessment

In 2006 the Agency for Healthcare Research and Quality (AHRQ) and the Department of Defense developed Strategies & Tools to Enhance Performance and Patient Safety, or TeamSTEPPS®, an evidence-based patient safety program. The main objective of the TeamSTEPPS program is to improve patient safety by training health care staff in various teamwork, communication, and patient safety concepts, tools, and techniques and ultimately increase national capacity for supporting teamwork-based patient safety efforts in health care organizations.

The updated TeamSTEPPS training will now be implemented in different settings of various large and small healthcare and healthcare-related organization and institutions around the country. Following implementation of the updated training, an assessment for change in individuals and teams is necessary to examine the degree to which the updated TeamSTEPPS program enhances users experience, improves the teams' effectiveness, streamlines team communication and overall increases healthcare professionals' commitment to interdisciplinary teamwork.

This information collection has the following goals:

(1) Assess the overarching short-term (immediately after the training) impact of the TeamSTEPPS program to determine what improvements should be made to the training and how it is delivered, and

(2) Assess the long-term (3-9 months after the training) impact of the TeamSTEPPS program to determine how trained participants use and implement the TeamSTEPPS tools and resources.

This project is being conducted by AHRQ through its contractor, Chatham Communications, pursuant to AHRQ's statutory authority to conduct and support research on health care and on systems for the delivery of such care, including activities with respect to the quality, effectiveness, efficiency, appropriateness, and value of healthcare services and with respect to quality measurement and improvement. 42 U.S.C 299a(a)(1) and (2).

Method of Collection

To achieve the goals of this project the following data collections will be implemented via online questionnaires. As such, we are requesting OMB approval to conduct three online questionnaires to assess the effectiveness of the updated TeamSTEPPS® training.

(1) Baseline Survey (administered prior to training)—Will include the TeamSTEPPS Teamwork Attitudes Questionnaire (T-TAQ), knowledge assessment questions, and self-reported event rates.

(2) Post-training Survey (administered immediately after training completion)—Will include questions to assess participant training reactions and experiences, the TeamSTEPPS Teamwork Attitudes Questionnaire (T-TAQ), and knowledge assessment questions.

(3) Follow-up Survey (administered 3-9 months after training completion)—Will include the TeamSTEPPS Teamwork Perceptions Questionnaire (T-TAP); self-reported behavior/implementation activities; facilitators and barriers to use of TeamSTEPPS concepts, tools, or strategies; self-reported changes in awareness, policies, or processes, and self-reported event rates.

Estimated Annual Respondent Burden

Exhibit 1 shows the estimated annualized burden hours for the respondent's time to participate in the information collection. Each training participant survey will be completed by up to 30 individuals from each of 115 sites and is estimated to require 20 minutes each (60 minutes total across the surveys) to complete. The total annualized burden is estimated to be 3,450 hours. Exhibit 2 shows the estimated annualized cost burden based on the respondents' time to participate in the study. The total cost burden is estimated to be $160,494.

Exhibit 1. Estimated Annualized Burden Hours

Exhibit 1—Estimated Annualized Burden Hours
Form name | Number of respondents | Number of responses per respondent | Hours per response | Total burden hours
Baseline Survey | 3,450 | 1 | 20/60 | 1,150
Post-training Survey | 3,450 | 1 | 20/60 | 1,150
Follow-up Survey | 3,450 | 1 | 20/60 | 1,150
Total | 10,350 | N/A | N/A | 3,450

Exhibit 2—Estimated Annualized Cost Burden

Exhibit 2—Estimated Annualized Cost Burden
Form name | Number of respondents | Total burden hours | Average hourly wage rate * | Total cost burden
Baseline Survey | 3,450 | 1,150 | $46.52 | 53,498
Post-training Survey | 3,450 | 1,150 | 46.52 | 53,498
Follow-up Survey | 3,450 | 1,150 | 46.52 | 53,498
Total | 10,350 | 3,450 | N/A | 160,494
* Based on the mean of the average wages for all health professionals (29-0000): Occupational Wages in the United States, May 2022, U.S. Department of Labor, Bureau of Labor Statistics (https://www.bls.gov/oes/current/oes_nat.htm).

Request for Comments

In accordance with the Paperwork Reduction Act, 44 U.S.C. 3501-3520, comments on AHRQ's information collection are requested with regard to any of the following: (a) whether the proposed collection of information is necessary for the proper performance of AHRQ's health care research and health care information dissemination functions, including whether the information will have practical utility; (b) the accuracy of AHRQ's estimate of burden (including hours and costs) of the proposed collection(s) of information; (c) ways to enhance the quality, utility and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: December 11, 2023.
Marquita Cullom,
Associate Director.

[FR Doc. 2023-27465 Filed 12-13-23; 8:45 am]

BILLING CODE 4160-90-P